DEPARTMENT OF COMMERCE

International Trade Administration

[A-570-954]

Certain Magnesia Carbon Bricks From the People's Republic of China: Preliminary Results of Antidumping Duty Administrative Review and Preliminary Determination of No Shipments; 2018-2019

AGENCY: Enforcement and Compliance, International Trade Administration, Department of Commerce.

SUMMARY: The Department of Commerce (Commerce) preliminarily determines that Fedmet Resources Corporation (Fedmet) did not have any shipments of subject merchandise during the period of review (POR) September 1, 2018 through August 31, 2019. Commerce also preliminary determines that the 16 remaining companies subject to this review are part of the China-wide entity because they did not file no shipment statements, separate rate applications (SRAs), or separate rate certifications (SRCs).

DATES: Applicable July 28, 2020.

FOR FURTHER INFORMATION CONTACT: Matthew Renkey, AD/CVD Operations, Office V, Enforcement and Compliance, International Trade Administration, U.S. Department of Commerce, 1401 Constitution Avenue NW, Washington, DC 20230; telephone: (202) 482-2312.

SUPPLEMENTARY INFORMATION:

Background

On November 12, 2019, Commerce published in the Federal Register a notice of initiation of an administrative review of the antidumping duty order on certain magnesia carbon bricks (magnesia carbon bricks) from the People's Republic of China (China) for 17 producers/exporters.¹

¹ See Initiation of Antidumping and Countervailing Duty Administrative Reviews, 84 FR 61011 (November 12, 2019) (Initiation Notice). The companies subject to this review are: Dandong Xinxing Carbon Co., Ltd.; Fedmet; Fengchi Imp. and Exp. Co.; Fengchi Imp. and Exp. Co., Ltd. of Haicheng City; Fengchi Mining Co., Ltd. of Haicheng City; Fengchi Refractories Co., of Haicheng City; Haicheng Donghe Taidi Refractory Co., Ltd.; Henan Xintuo Refractory Co., Ltd.; Liaoning Fucheng Refractories; Liaoning Zhongmei High Temperature Material Co., Ltd.; Liaoning Zhongmei Holding Co., Ltd.; RHI Refractories Liaoning Co., Ltd.; Shenglong Refractories Co., Ltd.; Tangshan Strong Refractories Co., Ltd.; The Economic Trading Group of Haicheng Houying Corp. Ltd.; Yingkou Heping Samwha Minerals, Co., Ltd.; and Yingkou Heping Sanhua Materials Co., Ltd.

On December 18, 2019, Fedmet certified that it had no shipments during the POR.² We did not receive a no shipment statement, SRA, or SRC from any other company subject to this review. On July 9, 2020, CBP confirmed that Fedmet made no shipments of subject merchandise to the United States during the POR.³

² See Fedmet's Letter, “Magnesia Carbon Bricks from the People's Republic of China, Case No. A-570-954: No Shipments Certification,” dated December 18, 2019.

³ See Memorandum, “Certain Magnesia Carbon Bricks from China (A-570-954),” dated July 9, 2019.

For a complete description of the events that followed the initiation of this administrative review, see the Preliminary Decision Memorandum.⁴ A list of topics included in the Preliminary Decision Memorandum is included as Appendix II to this notice. The Preliminary Decision Memorandum is a public document and is on file electronically via Enforcement and Compliance's Antidumping and Countervailing Duty Centralized Electronic Service System (ACCESS). ACCESS is available to registered users at https://access.trade.gov, and to all parties in the Central Records Unit, room B8024 of the main Department of Commerce building. In addition, a complete version of the Preliminary Decision Memorandum can be accessed directly at http://enforcement.trade.gov/frn/. The signed and the electronic versions of the Preliminary Decision Memorandum are identical in content.

⁴ See Memorandum, “Decision Memorandum for the Preliminary Results of the 2018-2019 Antidumping Duty Administrative Review: Magnesia Carbon Bricks from the People's Republic of China,” dated concurrently with, and hereby adopted by, this notice (Preliminary Decision Memorandum).

Scope of the Order

The products covered by this order are magnesia carbon bricks from China. For a full description of the scope, see the Preliminary Decision Memorandum.⁵

⁵ Id.

Methodology

Commerce is conducting this review in accordance with section 751(a)(1)(B) of the Tariff Act of 1930, as amended (the Act), and 19 CFR 351.213.

Preliminary Determination of No Shipments

Based on the available record information, Commerce preliminarily determines that Fedmet had no shipments during the POR. For additional information regarding this determination, see the Preliminary Decision Memorandum. Consistent with our assessment practice in non-market economy (NME) administrative reviews, Commerce is not rescinding this review for Fedmet, but intends to complete the review and issue appropriate instructions to CBP based on the final results of the review.⁶

⁶ See Non-Market Economy Antidumping Proceedings: Assessment of Antidumping Duties, 76 FR 65694, 65694-95 (October 24, 2011); see also the “Assessment Rates” section, below.

Separate Rates

Because no other company under review submitted an SRA or SRC, Commerce preliminarily determines that these companies have not demonstrated their eligibility for a separate rate. For additional information, see the Preliminary Decision Memorandum.

China-Wide Entity

Commerce's policy regarding conditional review of the China-wide entity applies to this administrative review.⁷ Under this policy, the China-wide entity will not be under review unless a party specifically requests, or Commerce self-initiates, a review of the entity. Because no party requested a review of the China-wide entity, and we did not self-initiate a review, the China-wide entity rate (i.e., 236.00 percent) is not subject to change as a result of this review.⁸ Aside from Fedmet, Commerce considers all other companies for which a review was requested ⁹ to be part of the China-wide entity. For additional information, see the Preliminary Decision Memorandum.

⁷ See Antidumping Proceedings: Announcement of Change in Department Practice for Respondent Selection in Antidumping Duty Proceedings and Conditional Review of the Nonmarket Economy Entity in NME Antidumping Duty Proceedings, 78 FR 65963 (November 4, 2013).

⁸ See Certain Magnesia Carbon Bricks from Mexico and the People's Republic of China: Antidumping Duty Orders, 75 FR 57257 (September 20, 2010) (Order).

⁹ See Appendix I.

Public Comment

In accordance with 19 CFR 351.309(c), case briefs or other written comments may be submitted to the Assistant Secretary for Enforcement and Compliance no later than 30 days after the date of publication of these preliminary results, unless the Secretary alters the time limit. Rebuttal briefs, limited to issues raised in case briefs, may be submitted no later than seven days after the deadline date for case briefs.¹⁰ Pursuant to 19 CFR 351.309(c)(2) and (d)(2), parties who submit case briefs or rebuttal briefs in this review are encouraged to submit with each argument: (1) A statement of the issue; (2) a brief summary of the argument; and (3) a table of authorities. Note that Commerce has temporarily modified certain of its requirements for serving documents containing business proprietary information, until further notice.¹¹

¹⁰ See 19 CFR 351.309; see also 19 CFR 351.303 (for general filing requirements).

¹¹ See Temporary Rule Modifying AD/CVD Service Requirements Due to COVID-19; Extension of Effective Period, 85 FR 41363 (July 10, 2020).

Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants, whether any participant is a foreign national, and a list of the issues to be discussed. Hearing requests should contain the following information: (1) The party's name, address, and telephone number; (2) the number of participants; and (3) a list of the issues to be discussed. Oral presentations at the hearing will be limited to issues raised in the briefs. If a request for a hearing is made, Commerce intends to hold the hearing at a date and time to be determined.¹²

¹² See 19 CFR 351.310(d).

Assessment Rates

Upon issuance of the final results of this review, Commerce will determine, and CBP shall assess, antidumping duties on all appropriate entries of subject merchandise covered by this review.¹³ We intend to instruct CBP to liquidate entries containing subject merchandise exported by the companies under review that we determine in the final results to be part of the China-wide entity at the China-wide rate of 236.00 percent. Commerce intends to issue assessment instructions to CBP 15 days after the date of publication of the final results of this review in the Federal Register.¹⁴

¹³ See 19 CFR 351.212(b)(1).

¹⁴ For a full discussion of this practice, see Non-Market Economy Antidumping Proceedings: Assessment of Antidumping Duties, 76 FR 65694 (October 24, 2011).

Cash Deposit Requirements

The following cash deposit requirements will be effective upon publication of the final results of this review for shipments of subject merchandise from China entered, or withdrawn from warehouse, for consumption on or after the publication date, as provided by sections 751(a)(2)(C) of the Act: (1) For previously-investigated or reviewed Chinese and non-Chinese exporters not listed above that received a separate rate in a prior segment of this proceeding, the cash deposit rate will continue to be the existing exporter-specific rate; (2) for all Chinese exporters of subject merchandise that have not been found to be entitled to a separate rate, the cash deposit rate will be that for the China-wide entity (i.e., 236.00 percent); and (3) for all non-Chinese exporters of subject merchandise which have not received their own rate, the cash deposit rate will be the rate applicable to the Chinese exporter that supplied that non-Chinese exporter. These deposit requirements, when imposed, shall remain in effect until further notice.

Notification to Importers

This notice also serves as a reminder to importers of their responsibility under 19 CFR 315.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these preliminary results in accordance with sections 751(a)(1) and 777(i) of the Act, and 19 CFR 351.213(h) and 351.221(b)(4).

Dated: July 21, 2020.
Jeffrey I. Kessler,
Assistant Secretary for Enforcement and Compliance.

Appendix I

List of Companies Failing To Demonstrate Eligibility for a Separate Rate

1. Dandong Xinxing Carbon Co., Ltd.

2. Fengchi Imp. and Exp. Co., Ltd.

3. Fengchi Imp. and Exp. Co., Ltd. of Haicheng City

4. Fengchi Mining Co., Ltd. of Haicheng City

5. Fengchi Refractories Co., of Haicheng City

6. Haicheng Donghe Taidi Refractory Co., Ltd.

7. Henan Xintuo Refractory Co., Ltd.

8. Liaoning Fucheng Refractories

9. Liaoning Zhongmei High Temperature Material Co., Ltd.

10. Liaoning Zhongmei Holding Co., Ltd.

11. RHI Refractories Liaoning Co., Ltd.

12. Shenglong Refractories Co., Ltd.

13. Tangshan Strong Refractories Co., Ltd.

14. The Economic Trading Group Of Haicheng Houying Corp. Ltd.

15. Yingkou Heping Samwha Minerals, Co., Ltd.

16. Yingkou Heping Sanhua Materials Co., Ltd.

Appendix II

List of Topics Discussed in the Preliminary Decision Memorandum

I. Summary

II. Background

III. Scope of the Order

IV. Discussion of the Methodology

V. Recommendation

[FR Doc. 2020-16328 Filed 7-27-20; 8:45 am]

BILLING CODE 3510-DS-P